DEPARTMENT OF ENERGY

National Coal Council

AGENCY: Department of Energy.

ACTION: Notice of open virtual meeting.

SUMMARY: This notice announces a virtual meeting via WebEx of the National Coal Council (NCC). The Federal Advisory Committee Act (92, 86 Stat. 770) requires that public notice of these meetings be announced in the Federal Register.

DATES: Thursday, November 12, 2015; 11:00 a.m. to 12:30 p.m.

ADDRESSES: If you wish to join the meeting you must register on-line by close of business on November 6, 2015 at the following URL: https://www.eiseverywhere.com/ereg/newreg.php?eventid=146687&.

You are required to submit your name, organization, email address, telephone number and a request to join the meeting. The email address you provide in the on-line registration form will be used to forward instructions on how to join the meeting using WebEx. WebEx requires a computer, web browser and an installed application (free). Instructions for joining the webcast will be sent to you two days in advance of the meeting.

FOR FURTHER INFORMATION CONTACT: Dr. Robert J. Wright, U.S. Department of Energy, 4G-036/Forrestal Building, 1000 Independence Avenue SW., Washington, DC 20585-0001; Telephone: 202-586-0429.

SUPPLEMENTARY INFORMATION: Purpose of the Council: The National Coal Council provides advice and recommendations to the Secretary of Energy, on general policy matters relating to coal and the coal industry.

Purpose of Meeting: The National Coal Council (the Council) will hold a virtual meeting via WebEx beginning at 11:00 a.m. (EST) on Thursday, November 12, 2015, for acceptance and discussion of the white paper, “Leveling the Playing Field for Low Carbon Coal”, from the National Coal Council Coal Policy Committee. After deliberation, the white paper will be forwarded to the Secretary of Energy.

A draft of the white paper will be available five days before the WebEx (November 5, 2015) on the National Coal Council Web site at the following URL: http://www.nationalcoalcouncil.org/studies/2015/Leveling-the-Playing-Field-for-Low-Carbon-Coal-Fall-2015.pdf.

Tentative Agenda

1. Call to Order

2. Report of the Coal Policy Committee on the White Paper

3. Motion on the Fate of the White Paper

4. Adjourn

Public Participation: The virtual meeting is open to the public. If you would like to file a written statement with the Council, you may do so either before or within 5 days after the meeting.

Minutes: A link to the audio/video recording of the meeting will be posted within 10-days on the NCC Web site at: http://www.nationalcoalcouncil.org/.

Issued at Washington, DC, on October 21, 2015.
LaTanya R. Butler,
Deputy Committee Management Officer.

[FR Doc. 2015-27299 Filed 10-26-15; 8:45 am]

BILLING CODE 6450-01-P